DEPARTMENT OF HEALTH AND HUMAN SERVICES

Centers for Disease Control and Prevention (CDC)

National Center for Environmental Health/Agency for Toxic Substances and Disease Registry

The Program Peer Review Subcommittee (PPRS) of the Board of Scientific Counselors (BSC), CDC, National Center for Environmental Health (NCEH/Agency for Toxic Substances and Disease Registry (ATSDR): Teleconference.

In accordance with section 10(a)(2) of the Federal Advisory Committee Act (Pub. L. 92-463), CDC, NCEH/ATSDR announces the following subcommittee teleconference meeting:

Time and Date:3 p.m.-5 p.m., June 11, 2007.

Place: The teleconference will originate at NCEH/ATSDR in Atlanta, Georgia. To participate, dial 877/315-6535 and enter conference code 383520.

Purpose: Under the charge of the BSC, NCEH/ATSDR, the PPRS will provide the BSC, NCEH/ATSDR with advice and recommendations on NCEH/ATSDR program peer review. They will serve the function of organizing, facilitating, and providing a long-term perspective to the conduct of NCEH/ATSDR program peer review.

Matters to be Discussed: Review and approve previous meeting minutes; discuss preparedness and emergency response peer review, approach to program peer review (internal discussion and BSC evaluation), and questionnaires; identify a PPRS member to participate on the workgroup, and areas of expertise needed for the review; identify peer reviewers, partners, and customers to participate on the workgroup; and draft peer review site visit agenda. Agenda items are subject to change as priorities dictate.

Supplementary Information: This meeting is scheduled to begin at 3 p.m. Eastern Daylight Saving Time. Public comment period is scheduled for 4:15-4:25 p.m.

BSC, NCEH/ATSDR held a bi-annual meeting on May 16-18, 2007 in Atlanta, Georgia. During the proceeding of this meeting, the Chair of the BSC, the Chair of PPRS of the BSC, and the Director of NCEH/ATSDR determined that an intramural peer review of the preparedness and emergency response activities at NCEH/ATSDR should be conducted by early fall in 2007. In order to accomplish this task in the desired short timeframe, the Chair of the PPRS as well as the Associate Director for Science at NCEH/ATSDR stipulated a need to hold a conference during the second week of June to discuss and plan the peer review of preparedness and emergency response activities at NCEH/ATSDR. This Federal Register notice is being published on less than 15 calendar days notice to the public (41 CFR 102-3.150(b)).

Contact Person for More Information: Sandra Malcom, Committee Management Specialist, Office of Science, NCEH/ATSDR, M/S E-28, 1600 Clifton Road, NE., Atlanta, Georgia 30333, telephone 404/498-0622.

The Director, Management Analysis and Services Office, has been delegated the authority to sign Federal Register notices pertaining to announcements of meetings and other committee management activities for both CDC and ATSDR.

Dated: June 4, 2007.
Elaine L. Baker,
Acting Director, Management Analysis and Services Office Centers for Disease Control and Prevention.

[FR Doc. E7-11086 Filed 6-7-07; 8:45 am]

BILLING CODE 4163-18-P